INTERNATIONAL TRADE COMMISSION

[USITC SE-14-020]

Sunshine Act Meetings

AGENCY HOLDING THE MEETING: United States International Trade Commission.

TIME AND DATE: June 6, 2014 at 11:00 a.m.

PLACE: Room 101, 500 E Street SW., Washington, DC 20436, Telephone: (202) 205-2000.

STATUS: Open to the public.

MATTERS TO BE CONSIDERED: 1. Agendas for future meetings: None.

2. Minutes.

3. Ratification List.

4. Vote in Inv. Nos. 701-TA-514 and 731-TA-1250 (Preliminary) (53-Foot Domestic Dry Containers from China). The Commission is currently scheduled to complete and file its determinations on June 9, 2014; views of the Commission are currently scheduled to be completed and filed on June 16, 2014.

5. Outstanding action jackets: None.

In accordance with Commission policy, subject matter listed above, not disposed of at the scheduled meeting, may be carried over to the agenda of the following meeting.

Dated: May 27, 2014.
By order of the Commission.
William R. Bishop,
Supervisory Hearings and Information Officer.

[FR Doc. 2014-12663 Filed 5-28-14; 11:15 am]

BILLING CODE 7020-02-P